DEPARTMENT OF EDUCATION

[ED-2018-OII-0003]

Proposed Waiver and Extension of the Project Period; DC Opportunity Scholarship Program

AGENCY: Office of Innovation and Improvement, Department of Education.

ACTION: Proposed waiver and extension of the project period.

[Catalog of Federal Domestic Assistance (CFDA) Number: 84.370A]

SUMMARY: For projects funded under the DC Opportunity Scholarship Program (OSP), the Secretary proposes to waive the requirements of the Education Department General Administrative Regulations that generally prohibit project period extensions involving the obligation of additional Federal funds. A waiver would allow the three-year grant funded with fiscal year (FY) 2015 funds under the OSP to be continued beyond its original project period with FY 2018 and FY 2019 funds.

DATES: The Department must receive your comments on or before February 23, 2018.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery:If you mail or deliver your comments about this proposed waiver and extension of the project period, address them to Justis Tuia, U.S. Department of Education, 400 Maryland Avenue SW, Room 4W251, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Anna Hinton, U.S. Department of Education, 400 Maryland Avenue SW, Room 4W229, Washington, DC 20202. Telephone: (202) 260-1816 or by email: anna.hinton@ed.gov.

If you use a telecommunications device for the deaf (TDD) or a text telephone (TTY), call the Federal Relay Service (FRS), toll free, at 1-800-877-8339.

SUPPLEMENTARY INFORMATION: Invitation to Comment: The Department invites you to submit comments regarding this proposed waiver and extension of the project period.

During and after the comment period, you may inspect all public comments about this proposed waiver and extension by accessing Regulations.gov. You may also inspect all public comments about this proposal in Room 4W229, 400 Maryland Avenue SW, Washington, DC, between the hours of 8:30 a.m. and 4:00 p.m., Washington, DC time, Monday through Friday of each week except Federal holidays.

Assistance to Individuals With Disabilities in Reviewing the Rulemaking Record: On request, the Department will provide an appropriate accommodation or auxiliary aid to an individual with a disability who needs assistance to review the comments or other documents in the public rulemaking record for this notice. If you want to schedule an appointment for this type of aid, please contact the person listed under FOR FURTHER INFORMATION CONTACT.

Background

On February 23, 2015, the Department of Education (Department) published in the Federal Register (80 FR 9448) a notice inviting applications (2015 NIA) for a new award for FY 2015 under the OSP.

The OSP provides low-income students residing in Washington, DC with an opportunity to receive a scholarship to attend a participating private school of their choice. The OSP was established in 2004 under the DC School Choice Incentive Act. In 2011, Congress reauthorized the OSP through FY 2016 under the Scholarships for Opportunity and Results Act (SOAR Act) (Pub. L. 112-10); and, in FY 2017, the SOAR Act was reauthorized through FY 2019 by the FY 2017 Consolidated Appropriations Act (Pub. L. 115-31).

Under the SOAR Act, the Department awards one grant to an eligible applicant to administer the OSP. The grant awarded is in the form of a cooperative agreement between the Department and the grantee. The grantee is required to recruit and make scholarship awards to eligible scholarship applicants; support and serve scholarship students and their families in making school choice decisions; identify and work with participating schools; monitor compliance of participating schools with program and reporting requirements; maintain reliable data regarding the operation of the program; and ensure appropriate coordination with the other entities that conduct activities related to program operations. The SOAR Act also provides for a performance period of up to five years for the OSP grant award.

The current OSP grantee was awarded with a three-year grant from October 1, 2015 to September 30, 2018. The Department would typically conduct a new grant competition in FY 2018.

Proposed Waiver of 34 CFR 75.261(a) and (c)(2)

The Department seeks to extend the period of performance of the existing OSP grant for up to two more years and waive the provisions of 34 CFR 75.261(a) and (c)(2) so that the current grantee may continue to receive additional funds to serve students in FY 2018 and FY 2019. The Department proposes this waiver based primarily on four factors. First, extending the current grantee's project would create stability and continuity as the program enters the final two years of the current SOAR Act authorization. Second, few organizations are eligible for and have the capacity to administer this program, which is evident by the small number of eligible applications that have been submitted under past OSP competitions. Third, extending the current grantee's project would permit the current grantee to fully implement the new recruitment and marketing strategies designed to significantly increase scholarship usage rates. The Department believes it is unlikely that a new program administrator could expeditiously and effectively implement the newly designed outreach efforts of the current grantee. Fourth, extending the current grantee's project would align the next OSP competition with the next anticipated reauthorization of the SOAR Act. Accordingly, the Department does not believe it would be in the public interest to hold a competition for a new OSP administrator before FY 2020.

If this proposed waiver becomes final through a notice of final waiver and extension of the project period published in the Federal Register—

• Any activities carried out during the extended project period would have to be consistent with, or a logical extension of, the scope, goals, and objectives of the grantee's application as approved in the 2015 competition;

• The requirements applicable to continuation awards for this competition set forth in the 2015 NIA and the requirements in 34 CFR 75.253 would apply to any continuation award sought by the current grantee. We will base our decision regarding a continuation award on the program narrative, budget, budget narrative, and program performance report submitted by the current grantee for FY 2018, and the requirements in 34 CFR 75.253; and

• The Department would not announce a new competition or make a new award under the OSP in FY 2018 or FY 2019.

The proposed waiver and project period extension would not exempt the current OSP grantee from the account-closing provisions of 31 U.S.C. 1552(a).

Regulatory Flexibility Act Certification

The Secretary certifies that the proposed waiver and extension and the activities required to support additional months of funding would not have a significant economic impact on a substantial number of small entities.

The small entity that would be affected by this proposed waiver and extension is the FY 2015 grantee, the non-profit organization currently receiving Federal funds under the OSP. The proposed waiver and extension would not have a significant economic impact on this entity because the activities required to support the additional year(s) of funding would not impose excessive regulatory burdens or require unnecessary Federal supervision. The waiver would impose minimal requirements to ensure the proper expenditure of program funds, including requirements that are standard for continuation awards.

Paperwork Reduction Act of 1995

This notice of proposed waiver and extension does not contain any information collection requirements.

Intergovernmental Review

This program is subject to Executive Order 12372 and the regulations in 34 CFR 79. One of the objectives of the Executive Order is to foster an intergovernmental partnership and a strengthened federalism. The Executive Order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site, you can view this document, as well as all other documents of this Department published in the Federal Register, in text or Portable Document Format (PDF). To use PDF you must have Adobe Acrobat Reader, which is available free at this site. You may also access documents of the Department published in the Federal Register by using the article search feature at: www.federalregister.gov. Specifically, through the advanced search feature at this site, you can limit your search to documents published by the Department.

Dated: January 18, 2018.
Margo K. Anderson,
Acting Assistant Deputy Secretary for Innovation and Improvement.

[FR Doc. 2018-01307 Filed 1-23-18; 8:45 am]

BILLING CODE 4000-01-P